NUCLEAR REGULATORY COMMISSION

10 CFR Part 73

[NRC-2015-0179]

RIN 3150-AJ64

Cyber Security at Fuel Cycle Facilities

AGENCY: Nuclear Regulatory Commission.

ACTION: Final regulatory basis; availability.

SUMMARY: The U.S. Nuclear Regulatory Commission (NRC) is making available a final regulatory basis document to support a rulemaking that would amend its regulations by adopting new cyber security requirements for certain nuclear fuel cycle facility (FCF) licensees in order to address safety, security, and safeguards consequences of concern. The NRC is not seeking public comments on this document. There will be an opportunity for formal public comment on the proposed rule when it is published in the Federal Register.

DATES: The final regulatory basis is publicly available April 12, 2016.

ADDRESSES: Please refer to Docket ID NRC-2015-0179 when contacting the NRC about the availability of information for this document. You may obtain publicly-available information related to this document by any of the following methods:

• Federal Rulemaking Web site: Go to http://www.regulations.gov and search for Docket ID NRC-2015-0179. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Matthew Bartlett, Office of Nuclear Material Safety and Safeguards, U.S. Nuclear Regulatory Commission, Washington, DC 20555-0001; telephone: 301-415-7154; email Matthew.Bartlett@nrc.gov.

SUPPLEMENTARY INFORMATION:

I. Background

In a September 4, 2015, Federal Register document (80 FR 53478), the NRC solicited comment from members of the public on a draft regulatory basis addressing the need for a rulemaking to implement cyber security for FCFs. The public comment period ended on October 5, 2015. The NRC received a total of 9 comment submissions from nongovernment organizations and industry. The NRC staff reviewed and considered the comments in finalizing the regulatory basis. The final regulatory basis is available in ADAMS under Accession No. ML15355A466 or on the Federal rulemaking Web site, www.regulations.gov, under Docket ID NRC-2015-0179.

II. Publicly-Available Documents

As the NRC continues its ongoing proposed rulemaking effort to implement cyber security requirements for FCFs in part 73 of title 10 of the Code of Federal Regulations, the NRC is making documents publicly available on the Federal rulemaking Web site, www.regulations.gov, under Docket ID NRC-2015-0179. By making these documents publicly available, the NRC seeks to inform stakeholders of the current status of the NRC's rulemaking development activities and to provide preparatory material for future public meetings.

The NRC may post additional materials relevant to this rulemaking at www.regulations.gov, under Docket ID NRC-2015-0179. Please take the following actions if you wish to receive alerts when changes or additions occur in a docket folder: (1) Navigate to the docket folder (NRC-2015-0179); (2) click the “Email Alert” link; and (3) enter your email address and select how frequently you would like to receive emails (daily, weekly, or monthly).

III. Plain Writing

The Plain Writing Act of 2010, (Pub. L. 111-274) requires Federal agencies to write documents in a clear, concise, well-organized manner that also follows other best practices appropriate to the subject or field and the intended audience. Although regulations are exempt under the Act, the NRC is applying the same principles to its rulemaking documents. Therefore, the NRC has written this document to be consistent with the Plain Writing Act.

Dated at Rockville, Maryland, this 1st day of April, 2016.
For the Nuclear Regulatory Commission.
Shana R. Helton,
Acting Deputy Director, Division of Fuel Cycle Safety, Safeguards, and Environmental Review, Office of Nuclear Material Safety and Safeguards.

[FR Doc. 2016-08324 Filed 4-11-16; 8:45 am]

BILLING CODE 7590-01-P